DEPARTMENT OF THE INTERIOR

Fish and Wildlife Service

[FWS-R2-ES-2013-N275; FXES11130200000C2-112-FF02ENEH00]

Endangered and Threatened Wildlife and Plants; Final Recovery Plan for the Gulf Coast Jaguarundi

AGENCY: Fish and Wildlife Service, Interior.

ACTION: Notice of availability; request for comment.

SUMMARY: We, the U.S. Fish and Wildlife Service, announce the availability of our final recovery plan for the Gulf Coast jaguarundi under the Endangered Species Act of 1973, as amended (Act). We have developed this final recovery plan to comply with a September 16, 2010, Stipulated Settlement Agreement between WildEarth Guardians and the Secretary of the Interior. This species historically occurred in southern Texas in the United States, and is currently known to occur in eastern Mexico as far south as Veracruz.

ADDRESSES: If you wish to review the final recovery plan, you may obtain a copy by any one of the following methods:

• Internet: http://www.fws.gov/endangered/species/recovery-plans.html;

• U.S. mail: South Texas Refuges Complex Headquarters, Attn: Mitch Sternberg, 3325 Green Jay Road, Alamo, TX 78516;

• Telephone: (956) 784-7500;

• Fax: (956) 787-8338; or

• Email: Mitch_Sternberg@fws.gov.

FOR FURTHER INFORMATION CONTACT: Mitch Sternberg, at the above address, phone number, or email.

SUPPLEMENTARY INFORMATION: We announce the availability of our final recovery plan for the Gulf Coast jaguarundi (Puma yagouaroundi cacomitli). The recovery plan was prepared by biologists from the United States, with input from experts in Mexico. We made the draft recovery plan available via a Federal Register notice published on December 26, 2012 (77 FR 76066); this notice opened a comment period that ran through February 22, 2013, and requested comments from local, State, and Federal agencies; and the public. We considered information we received from these entities, as well as that obtained from two independent peer reviewers, in finalizing this revised recovery plan.

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

We listed the Gulf Coast jaguarundi as an endangered species under the Act on June 14, 1976 (41 FR 24062). The Listed Cats of Texas and Arizona Recovery Plan (With Emphasis on the Ocelot) was completed in 1990, and it briefly addressed the jaguar, jaguarundi, and margay, but focused on the ocelot, primarily in Texas. The Final Gulf Coast Jaguarundi Recovery Plan only applies to the Gulf Coast subspecies of jaguarundi.

The jaguarundi was originally included in the genus Felis, and the Gulf Coast jaguarundi was originally listed under the Act as Felis yagouaroundi cacomitli in 1976. Later, genus classification was changed from Felis to Herpailurus, and this widely accepted change was subsequently made to the listing. Thus, this subspecies is currently listed under the Act as Herpailurus (=Felis) yagouaroundi cacomitli. However, more recent genetic work assigns the jaguarundi to the genus Puma, and this has become the generally accepted nomenclature. Therefore, in keeping with this current information, we refer to the Gulf Coast jaguarundi subspecies as Puma yagouaroundi cacomitili throughout this recovery plan, and we officially accept the new scientific name of the jaguarundi as Puma yagouaroundi.

The Sinaloan jaguarundi (Puma yagouaroundi tolteca) was originally listed under the Act at the same time as the Gulf Coast subspecies. Because all of the current information indicates that the tolteca subspecies occurs entirely outside the United States and has never been confirmed within the United States, the Sinaloan jaguarundi was exempted from recovery planning on June 7, 2011.

The Gulf Coast jaguarundi is found in the Tamaulipan Biotic Province of northeast Mexico and south Texas. Within Mexico it occurs in the eastern lowlands and has not been recorded in the Central Highlands. In southern Texas, jaguarundis used dense thorny shrublands. Jaguarundis will use bunchgrass pastures if dense brush or woody cover is nearby.

The primary known threats to the Gulf Coast jaguarundi are habitat destruction, degradation, and fragmentation associated with agriculture and urbanization, and, to some extent, border security activities. Mortality from collisions with vehicles is also a threat.

Recovery Plan Goals

The objective of an agency recovery plan is to provide a framework for the recovery of a species so that protection under the Act is no longer necessary. A recovery plan includes scientific information about the species and provides criteria and actions necessary for us to be able to reclassify the species to threatened status or remove it from the Federal List of Endangered and Threatened Wildlife and Plants (List). Recovery plans help guide our recovery efforts by describing actions we consider necessary for the species' conservation, and by estimating time and costs for implementing needed recovery measures. To achieve its goals, this final recovery plan identifies the following objectives:

• Support efforts to develop more effective survey techniques for jaguarundis and to ascertain the status, better understand ecological and conservation needs, and promote conservation of the Gulf Coast jaguarundi and its habitats.

• Assess, protect, and restore sufficient habitat and connectivity to support viable populations and genetic exchange of the Gulf Coast jaguarundi in southern Texas and in Mexico.

• Reduce the effects of human population growth and development on potential Gulf Coast jaguarundi habitat in the United States and on the jaguarundi's potential survival and mortality.

• Assure the long-term viability of jaguarundi conservation through partnerships, the development and application of incentives for landowners, application of existing regulations, and public education and outreach.

• Practice adaptive management, in which recovery is monitored and recovery tasks are revised by the FWS as new information becomes available.

The draft revised recovery plan contains recovery criteria based on maintaining and increasing population numbers and habitat quality and quantity. The revised recovery plan focuses on protecting populations, managing threats, maintaining habitat, monitoring progress, and building partnerships to facilitate recovery.

As the subspecies meets recovery criteria, we will review the subspecies' status and consider removal from the List.

Authority

We developed our final recovery plan under the authority of section 4(f) of the Act, 16 U.S.C. 1533(f). We publish this notice under section 4(f) Endangered Species Act of 1973, as amended (16 U.S.C. 1531 et seq.).

Dated: December 20, 2013.
Joy E. Nicholopoulos,
Acting Regional Director, Southwest Region, U.S. Fish and Wildlife Service.

[FR Doc. 2013-31533 Filed 1-3-14; 8:45 am]

BILLING CODE 4310-55-P